DEPARTMENT OF THE INTERIOR

Office of the Secretary

[ONRR-2012-0003; DS63600000 DR2PS0000.PX8000 156D0102R2]

U.S. Extractive Industries Transparency Initiative Multi-Stakeholder Group (USEITI MSG) Advisory Committee

AGENCY: Office of Natural Resource Revenue, Interior.

ACTION: Meetings.

SUMMARY: This notice announces the next four meetings of the United States Extractive Industries Transparency Initiative (USEITI) Multi-Stakeholder Group (MSG) Advisory Committee.

Dates and Times: The four meetings in 2015 will occur on February 24-25, 2015; May 20-21, 2015; September 16-17, 2015; and December 15-16, 2015; in Washington, DC, from 9:30 a.m. to 5:00 p.m. Eastern Time, unless we indicate otherwise at www.doi.gov/eiti/faca, where we will post agendas, meeting logistics, and meeting materials prior to the meeting.

ADDRESSES: The meetings will be held in the North and South Penthouse of the Stewart Lee Udall Department of the Interior Building located at 1849 C Street NW., Washington, DC 20240. Members of the public may attend in person or view documents and presentations under discussion via WebEx at http://bit.ly/1cR9W6t and listen to the proceedings at telephone number 1-888-455-2910 and International Toll number 210-839-8953 (passcode: 7741096).

FOR FURTHER INFORMATION CONTACT: Rosita Compton Christian, USEITI Secretariat; 1849 C Street NW., MS 4211; Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the USEITI multi-stakeholder group. More information about the Committee, including its charter, is available at www.doi.gov/eiti/faca.

Meeting Agenda: Agenda items for the February 24-25, 2015, meeting will include review, discussion, and agreement on the Independent Administrator's (IA) proposed revenue reporting template, the Data Collection and Reconciliation, and the Contextual Data Report Plans for the 2015 USEITI Report. The agenda for the May 20-21, 2015, meeting will include the review and discussion of the IA draft Reconciliation Report and discussion of the contextual information for the 2015 USEITI Report. The agenda for the September 16-17, 2015, meeting will include a review and discussion of the initial draft USEITI Report and determination of consistency with EITI requirements. The agenda for the December 15-16, 2015, meeting will include discussion and agreement on the final USEITI Report, drafting of the annual work-plan to meet all EITI requirements, and planning for 2016. We will post the final agendas and materials for all meetings on the USEITI MSG Web site at www.doi.gov/eiti/faca. All Committee meetings are open to the public.

Whenever possible, we encourage those participating by telephone to gather in conference rooms in order to share teleconference lines. Please plan to dial into the meeting and/or log into WebEx at least 10-15 minutes prior to the scheduled start time in order to avoid possible technical difficulties. We will accommodate individuals with special needs whenever possible. If you require special assistance (such as an interpreter for the hearing impaired), please notify Interior staff in advance of the meeting at 202-208-0272 or via email at useiti@ios.doi.gov.

We will post the minutes from these proceedings on the USEITI MSG Web site at www.doi.gov/eiti/faca and they will also be available for public inspection and copying at our office at the Stewart Lee Udall Department of the Interior Building in Washington, DC, by contacting Interior staff at useiti@ios.doi.gov or by telephone at 202-208-0272. For more information on USEITI, visit www.doi.gov/eiti.

Dated: December 18, 2014.
Paul A. Mussenden,
Deputy Assistant Secretary—Natural Resource Revenue Management.

[FR Doc. 2015-00508 Filed 1-13-15; 8:45 am]

BILLING CODE 4335-30-P